DEPARTMENT OF ENERGY

Federal Energy Regulatory Commission

[Docket No. RM04-7-006]

Market-Based Rates for Wholesale Sales of Electric Energy, Capacity and Ancillary Services by Public Utilities; Notice of New Docket Prefix “LA” for Land Acquisition Reports and Guidelines for Filing Under Order No. 697-C

April 20, 2010.

Notice is hereby given that a new docket prefix “LA” has been established for `Land Acquisition Reports' (LA Reports) filed by market-based utilities on a quarterly basis, pursuant to Order No. 697-C.¹

¹ Market-Based Rates for Wholesale Sales of Electric Energy, Capacity and Ancillary Services by Public Utilities, Order No. 697-C, FERC Stats. & Regs. ¶ 31,291 (2009).

In that Order, the Commission required that all market-based rate sellers must report on a quarterly basis the acquisition of control of a site or sites for new generation capacity development for which site control has been demonstrated in the interconnection process and for which the potential number of megawatts that are reasonably commercially feasible on the site or sites for new generation capacity development is equal to 100 megawatts or more. If a Seller elects to make a monetary deposit so that it may demonstrate site control at a later time in the interconnection process, the monetary deposit will trigger the quarterly reporting requirement instead of the demonstration of site control. A notification of change in status that is submitted to report the acquisition of control of a site or sites for new generation capacity development must include:

(1) The number of sites acquired;

(2) The relevant geographic market in which the sites are located; and

(3) The maximum potential number of megawatts (MW) that are reasonably commercially feasible on the sites reported.

Each LA Report will now receive a new prefix “LA” as part of its designated docket number and will be enumerated quarterly so that the first quarterly filing received will be filed under LA10-1-000, the second quarterly filing will be filed under LA10-2-000 and so on. Accordingly, each quarter and year the LA docket number will change and the Commission will no longer sub-docket these reports under the formerly used “ER” docket prefixes that were used previously for these reports.

For 2010 filings, the docket numbers will appear as follows:

Docket No. | Periods covering | Date filed
LA10-1-000 | First quarter of calendar year 2010 | Filed in April 2010 for January-March 2010.
LA10-2-000 | Second quarter of calendar year 2010 | Filed in July 2010 for April-June 2010.
LA10-3-000 | Third quarter of calendar year 2010 | Filed in October 2010 for July-September 2010.
LA10-4-000 | Fourth quarter of calendar year 2010 | Filed in January 2011 for October-December 2010.

Filing guidelines for the “LA” prefix are attached to this notice and will be posted on the Commission's Web site at http://www.ferc.gov/help/how-to.asp. The Commission encourages electronic filing of all LA reports.

Kimberly D. Bose,
Secretary.

Attachment—Filing Guidelines for “LA” Reports Under FERC Order No. 697-C

Reporting Requirements Under 18 CFR 35.42

Order No. 697-C established filing requirements for quarterly reports filed by an electric utility under 18 CFR 35.42.

This report should be submitted using the Commission's eFiling system. The content of each report must conform to the applicable regulation under which the report is filed. Filers are requested to select the applicable LA docket number(s) that correspond with the appropriate calendar quarter filed and also select all the former ER docket numbers that apply.

A FERC Online eRegistration account is a prerequisite for anyone submitting an electronic filing to FERC and anyone that will be identified during the eFiling process as a person responsible for the filing. Links to both eRegistration and eFiling are available on the Commission's Web site at: http://www.ferc.gov/docs-filing/docs-filing.asp.

[FR Doc. 2010-9684 Filed 4-26-10; 8:45 am]

BILLING CODE 6717-01-P